SMALL BUSINESS ADMINISTRATION

[Declaration of Disaster #3342]

Commonwealth of Pennsylvania

Montgomery County and the contiguous counties of Bucks, Berks, Chester, Delaware, Lehigh and Philadelphia in the Commonwealth of Pennsylvania constitute a disaster area due to damages caused by a multiple alarm fire that occurred on May 15 and 16, 2001. Applications for loans for physical damage as a result of this disaster may be filed until the close of business on July 23, 2001 and for economic injury until the close of business on February 25, 2002 at the address listed below or other locally announced locations: U.S. Small Business Administration, Disaster Area 1 Office, 360 Rainbow Blvd., South 3rd Floor, Niagara Falls, NY 14303.

The interest rates are:

| Percent
For Physical Damage:
Homeowners with credit available elsewhere | 6.625
Homeowners without credit available elsewhere | 3.312
Businesses with credit available elsewhere | 8.000
Businesses and non-profit organizations without credit available elsewhere | 4.000
Others (including non-profit organizations) with credit available elsewhere | 7.125
For Economic Injury:
Businesses and small agricultural cooperatives without credit available elsewhere | 4.000

The number assigned to this disaster for physical damage is 334205 and for economic injury is 9L7600.

(Catalog of Federal Domestic Assistance Program Nos. 59002 and 59008.)

Dated: May 22, 2001.
John Whitmore,
Acting Administrator.

[FR Doc. 01-13425 Filed 5-25-01; 8:45 am]

BILLING CODE 8025-01-P